DEPARTMENT OF AGRICULTURE

Animal and Plant Health Inspection Service

9 CFR Part 3

[Docket No. APHIS-2025-1000]

Standards for the Care of Breeding Female Dogs and Exercise and Socialization of Dogs

AGENCY: Animal and Plant Health Inspection Service, USDA.

ACTION: Request for information (RFI).

SUMMARY: The Animal and Plant Health Inspection Service (APHIS) of the United States Department of Agriculture is soliciting comments regarding appropriate standards for the care of breeding female dogs at dog breeding facilities and exercise and socialization of dogs subject to the Animal Welfare Act. Information obtained from public comments will help identify outdated standards, new science, and stakeholder interest.

DATES: We will consider all comments that we receive on or before March 19, 2026.

ADDRESSES: You may submit comments by either of the following methods:

• Federal eRulemaking Portal: Go to http://www.regulations.gov. Enter APHIS-2025-1000 in the Search field. Select the Documents tab, then select the Comment button in the list of documents.

• Postal Mail/Commercial Delivery: Please send one copy of your comment to Docket No. APHIS-2025-1000, Regulatory Analysis and Development, PPD, APHIS, 5601 Sunnyside Ave., #AP760, Beltsville, MD 20705.

Supporting documents and any comments we receive on this docket may be viewed at http://www.regulations.gov or in our reading room, which is in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Christine Jones, Acting Animal Care Chief of Staff, 2150 Centre Ave., Bldg. B, Mailstop 3W11, Fort Collins, CO 80526; (970) 494-7478.

SUPPLEMENTARY INFORMATION:

Background

The Animal Welfare Act (7 U.S.C. 2131-2159, hereafter the AWA) authorizes the Secretary of Agriculture to promulgate standards and other requirements governing the humane care, treatment, and transportation of certain animals by dealers, research facilities, exhibitors, carriers, and other regulated entities. Among other things, section 2143(a) provides that the aforementioned standards must include minimum requirements for the exercise of dogs as determined by attending veterinarians in accordance with general standards promulgated by the Secretary.

The Secretary has delegated the authority for enforcing the AWA to the Administrator of the Animal and Plant Health Inspection Service (APHIS). Regulations established under the AWA are contained in 9 CFR parts 1, 2, and 3.

The regulations governing the humane handling, care, treatment, and transportation of dogs are contained in 9 CFR part 3, subpart A. Within that subpart, animal husbandry standards for dogs are found in §§ 3.7 through 3.13. Section 3.7 of the subpart contains compatible grouping standards for dogs; § 3.8 contains exercise standards; §§ 3.9 and 3.10 contain feeding and watering standards respectively; § 3.11 contains cleaning, sanitation, housekeeping, and pest control standards; and § 3.13 contains standards for veterinary care for dogs. (Section 3.12 does not contain standards for dogs and is focused on employees involved in husbandry practices and care.)

Sections 3.1 through 3.11 were last substantially revised in a final rule published in the Federal Register on February 15, 1991 (56 FR 6426-6505; Docket No. 90-218, referred to below as the February 1991 final rule); the standards for veterinary care for dogs found in § 3.13 were added to the regulations in a final rule published in the Federal Register on May 30, 2020 (85 FR 28772-28799, Docket No. APHIS-2017-0062, referred to below as the May 2020 final rule).

We are aware that advances continue to be made, new information developed, and new concepts implemented with regard to the handling and care of dogs. For example, APHIS is aware of advancements in and special considerations provided by State laws regarding the care of breeding females at dog breeding facilities, including “adequate rest” between breeding cycles, minimum and maximum breeding ages, and pre-breeding examinations and caps on the maximum number of litters female breeding dogs may have over the course of their lifetime. In addition, the Croney Research group at Purdue University's College of Veterinary Medicine (https://www.purdue.edu/vet/discovery/croney/) has advanced science-based standards for breeding dogs through their applied research and outreach education programs which inform their voluntary breeding canine welfare certification program, a program that addresses behavioral needs of dogs and informs limits for breeding ages and litter numbers, health requirements, and retirement and rehoming plans.

We are also aware of enhanced exercise requirements for dogs in several States that include minimum daily exercise unless contraindicated and/or otherwise directed by a veterinarian, as well as socialization requirements, such as positive physical contact with humans and compatible animals. The American Kennel Club, a canine welfare and advocacy organization, has also advanced kennel improvements to enhance dog welfare, including additional space, enhanced exercise and environmental enrichment, and outdoor access.

In light of these developments, we consider it appropriate to review and seek data and scientific information on care considerations for breeding females at dog breeding facilities and the exercise and socialization needs of dogs, and are soliciting public comment on the issues outlined below. We invite the submission of data and reviewed scientific information, and where possible, request citations for any referenced studies and scientific evidence to support your comments.

Care Considerations for Breeding Females

• Do breeding female dogs require additional veterinary or other care considerations over those for non-breeding dogs? What are the most common health issues documented in female breeding dogs?

• Are there studies regarding the specific nutrition requirements during pregnancy and lactation for breeding females?

• What scientific evidence is there regarding the impact of breeding age on the health of breeding females?

• What, if any, impact does the number and frequency of litters have on the health of female dogs? Are there studies evaluating the impact of breed size on the health and breeding of female dogs?

• What scientific evidence is there regarding the impact of heritable defects on the health of breeding females? What are the costs and benefits of genetic testing in breeding females for dog breeding facilities?

Socialization and Exercise of Dogs

• Are there studies assessing the socialization needs of dogs, including interactions with humans and compatible dogs?

• Are there studies assessing the health and wellbeing of singly housed dogs?

• What scientific information is available regarding the exercise needs of dogs, including considerations of the animal's age, breed, and health, the type of exercise, and exercise frequency and duration?

• Are there studies evaluating the effects of human interaction on the health and welfare of dogs in breeding facilities?

Authority: 7 U.S.C. 2131-2159; 7 CFR 2.22, 2.80, and 371.7.

Done in Washington, DC, this 12th day of February 2026.
Jeremy Witte,
Deputy Undersecretary for Marketing and Regulatory Programs, USDA.

[FR Doc. 2026-03077 Filed 2-13-26; 8:45 am]

BILLING CODE 3410-34-P